DEPARTMENT OF ENERGY

Office of Science; Fusion Energy Sciences Advisory Committee

AGENCY: Department of Energy.

ACTION: Notice of open meeting.

SUMMARY: This notice announces a meeting of the Fusion Energy Sciences Advisory Committee. The Federal Advisory Committee Act (Pub. L. 92-463, 86 Stat. 770) requires that public notice of these meetings be announced in the Federal Register.

DATES: Monday, July 26, 2004, 9 a.m. to 6 p.m.; Tuesday, July 27, 2004, 9 a.m. to 12 noon.

ADDRESSES: The Marriott Gaithersburg Washingtonian Center, 9751 Washingtonian Boulevard, Gaithersburg, Maryland 20878, USA.

FOR FURTHER INFORMATION CONTACT: Albert L. Opdenaker, Office of Fusion Energy Sciences, U.S. Department of Energy, 1000 Independence Avenue, SW., Washington, DC 20585-1290; telephone: 301-903-4927.

SUPPLEMENTARY INFORMATION: Purpose of the Meeting: The purpose of this meeting is to hear from the FESAC the progress that it has made in fulfilling its charge to identify the major science and technology issues that need to be addressed, recommend how to organize campaigns to address those issues, and recommend the priority order in which the identified campaigns should be undertaken.

Tentative Agenda

Monday, July 26, 2004

• Office of Science Perspective.

• Office of Fusion Energy Sciences Perspective.

• Overview of the Priority Panel Efforts to Date.

• Presentations from the Six Working Groups.

• Public Comments.

Tuesday, July 27, 2004

• ITER Project Status.

• Further Discussions.

• Adjourn.

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). You must make your request for an oral statement at least 5 business days before the meeting. Reasonable provision will be made to include the scheduled oral statements on the agenda. The Chairperson of the Committee will conduct the meeting to facilitate the orderly conduct of business. Public comment will follow the 10-minute rule.

Minutes: We will make the minutes of this meeting available for public review and copying within 30 days at the Freedom of Information Public Reading Room, IE-190, Forrestal Building, 1000 Independence Avenue, SW., Washington, DC, between 9 a.m. and 4 p.m., Monday through Friday, except Federal holidays.

Issued in Washington, DC, on June 23, 2004.
Carol A. Matthews,
Acting Deputy Advisory Committee Management Officer.

[FR Doc. 04-14687 Filed 6-28-04; 8:45 am]

BILLING CODE 6450-01-P